DEPARTMENT OF THE INTERIOR

Office of Natural Resources Revenue

[Docket No. ONRR-2011-0019; DS63644000 DRT000000.CH7000 223D1113RT, OMB Control Number 1012-0001]

Agency Information Collection Activities; Accounts Receivable Confirmations Reporting

AGENCY: Office of Natural Resources Revenue (“ONRR”), Interior.

ACTION: Notice of information collection; request for comment.

SUMMARY: In accordance with the Paperwork Reduction Act of 1995 (“PRA”), ONRR is proposing to renew an information collection. Through this Information Collection Request (“ICR”), ONRR seeks renewed authority to collect information from royalty payors to verify a small number of ONRR accounts receivable randomly selected by the Office of Inspector General (“OIG”) for audit.

DATES: Interested persons are invited to submit comments on or before November 8, 2021.

ADDRESSES: All comment submissions must (1) reference “OMB Control Number 1012-0001” in the subject line; (2) be sent to ONRR before the close of the comment period listed under DATES; and (3) be sent through one of the following two methods:

• Electronically via the Federal eRulemaking Portal: Please visit https://www.regulations.gov. In the Search Box, enter the Docket ID Number for this ICR renewal (“ONRR-2011-0019”) to locate the document and click the “Comment Now!” button. Follow the prompts to submit your comment prior to the close of the comment period.

• Email Submissions: Please email your comments to ONRR_RegulationsMailbox@onrr.gov with the Control Number (“OMB Control Number 1012-0001”) listed in the subject line of your email. Email submissions must be postmarked on or before the close of the comment period.

Docket: To access the docket to view ICR publications in the Federal Register, go to https://www.regulations.gov and search “ONRR-2011-0019”. The docket will display renewal notices recently published in the Federal Register, publications associated with prior renewals, and applicable public comments received for this ICR.

OMB ICR Data: OMB also maintains information on ICR renewals and approvals. You may access this information at https://www.reginfo.gov/public/do/PRASearch. Please use the following instructions: Under the “OMB Control Number” heading enter “1012-0001” and click the “Search” button located at the bottom of the page. To view the ICR renewal or OMB approval status, click on the latest entry (based on the most recent date). On the “View ICR—OIRA Conclusion” page, check the box next to “All” to display all available ICR information provided by OMB.

FOR FURTHER INFORMATION CONTACT: To request additional information about this ICR, please contact Ms. Jennifer Dougherty, Financial Management, Revenue, Reporting, and Compliance Management, ONRR by email at Jennifer.Dougherty@onrr.gov or by telephone at (303) 231-3563. Individuals who are hearing or speech impaired may call the Federal Relay Service at 1-800-877-8339 for TTY assistance.

SUPPLEMENTARY INFORMATION: Pursuant to the PRA, 44 U.S.C. 3501, et seq., and 5 CFR 1320.5, all information collections as defined in 5 CFR 1320.3, require approval by OMB. ONRR may not conduct or sponsor, and you are not required to respond to, a collection of information unless it displays a currently valid OMB control number.

As part of ONRR's continuing effort to reduce paperwork and respondent burdens, ONRR is inviting the public and other Federal agencies to comment on new, proposed, revised, and continuing collections of information in accordance with the PRA and 5 CFR 1320.8(d)(1). This helps ONRR assess the impact of its information collection requirements and minimize the public's reporting burden. It also helps the public understand ONRR's information collection requirements and provide the requested data in the desired format.

ONRR is especially interested in public comments addressing the following:

(1) Whether the collection of information is necessary for the proper performance of the functions of the agency, including whether the information will have practical utility;

(2) The accuracy of ONRR's estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

ONRR published a notice, with a 60-day public comment period soliciting comment of this collection of information, in the Federal Register on April 21, 2021 (86 FR 20710). ONRR received no comments from companies regarding the published 60-day Federal Register notice.

Comments that you submit in response to this 30-day notice are a matter of public record. ONRR will include or summarize each comment in its request to OMB to approve this ICR. Before including your address, phone number, email address, or other personal identifying information in your comment, you should be aware that your entire comment—including your personal identifying information—may be made publicly available at any time. While you can ask ONRR in your comment to withhold information from public review, ONRR cannot guarantee that it will be able to do so.

Abstract: (a) General Information: The Federal Oil and Gas Royalty Management Act of 1982 (“FOGRMA”) directs the Secretary of the Interior (“Secretary”) to maintain a comprehensive inspection, collection, and fiscal and production accounting and auditing system that: (1) Accurately determines mineral royalties, interest, and other payments owed, (2) collects and accounts for such amounts in a timely manner, and (3) disburses the funds collected. See 30 U.S.C. 1701 and 1711. ONRR performs these mineral revenue management responsibilities for the Secretary. See Secretarial Order No. 3306. Royalty payors submit royalty reports to ONRR on a monthly basis by submitting form ONRR-2014 (Report of Sales and Royalty Remittance reported in OMB Control Number 1012-0004), and form ONRR-4430 (Solid Minerals Production and Royalty Report reported in OMB Control Number 1012-0010). These forms result in accounts receivables and capture most of the mineral revenues that ONRR collects.

(b) Information Collections: Every year, under the Chief Financial Officers Act of 1990 (“CFO Act”), the OIG or its agent audits the accounts receivable portions of the Department of the Interior's financial statements, which includes ONRR accounts receivable. As part of the audit, the OIG or its agent randomly selects a sample of ONRR accounts receivable. For each one selected, ONRR generates an accounts receivable confirmation letter to the royalty payor to obtain third-party confirmation of the validity of the financial record for the audit. In order to meet the CFO Act's requirements, the letter must be on ONRR letterhead and the Deputy Director for ONRR, or his or her designee, must sign the letter. The letter requests a response by a specified date to verify: (1) Customer identification; (2) royalty invoice number; (3) payor assigned document number; (4) date of ONRR's receipt; (5) original amount the payor reported; and (6) remaining balance due to ONRR. The OIG or its agent mails the letter to the payor and instructs it to respond directly to the OIG or its agent. The information provided helps ensure that ONRR's financial records are accurate.

Title of Collections: Accounts Receivable Confirmations Reporting.

OMB Control Number: 1012-0001.

Form(s) Number: None.

Type of Review: Extension of a currently approved collection.

Respondent/Affected Public: Businesses.

Total Estimated Number of Annual Respondents: 24 randomly-selected mineral payors from Federal and Indian lands and the Outer Continental Shelf.

Total Estimated Number of Annual Responses: 24.

Estimated Completion Time per Response: ONRR estimates that each response will take 15 minutes for the payor to complete.

Total Estimated Number of Annual Burden Hours: 6 hours.

Respondent's Obligation: Voluntary.

Frequency of Collection: Annual.

Total Estimated Annual Non-hour Burden Cost: ONRR did not identify any “non-hour cost” burden associated with this collection of information.

An agency may not conduct or sponsor, and a person is not required to respond to, a collection of information unless it displays a currently valid OMB control number.

The authority for this action is the PRA (44 U.S.C. 3501 et seq).

Kimbra G. Davis,
Director, Office of Natural Resources Revenue.

[FR Doc. 2021-21893 Filed 10-6-21; 8:45 am]

BILLING CODE 4335-30-P